DEPARTMENT OF AGRICULTURE

Food Safety and Inspection Service

[Docket No. 02-023N]

FSIS Security Guidelines for Food Processors; Notice of Availability

AGENCY: Food Safety and Inspection Service, USDA.

ACTION: Notice of availability; request for public comments.

SUMMARY: The Food Safety and Inspection Service (FSIS) is announcing the availability of the Agency's current Security Guidelines for Food Processors. These guidelines were developed to assist Federal- and State-inspected plants that produce meat, poultry, and egg products in identifying ways to strengthen their security plans to protect against acts of bioterrorism. FSIS recognizes that Federal- and State-inspected plants may also be aware of, and be adopting, security guidelines from other government agencies, industry organizations, and private sector experts. However, plants that do not have access to specialized security planning advice should find these guidelines useful as they develop and improve their food security plans.

These guidelines were designed and developed to meet the particular needs of meat, poultry, and egg processing plants and to be easily understood and readily adaptable by plant officials. While these guidelines are voluntary, and plants may choose to adopt measures suggested by many different sources, it is vital that all plants take steps to assure the security of their operations. The guidelines are available in both English and Spanish.

DATES: Submit written comments on the security guidelines to the FSIS Docket Clerk no later than October 21, 2002.

ADDRESSES: Copies of the FSIS Security Guidelines are available from the FSIS Docket Clerk, Room 102 Cotton Annex Building, 300 12th Street, SW., Washington, DC 20250-3700. Copies also are available on the Internet at: http:www.fsis.usda.gov/oppde/rdad/publications.htm. Send all written comments on the proposed security guidelines to the above address. All comments received will be considered part of the public record and will be available for viewing in the Docket Room between 8:30 a.m. and 4:30 p.m., Monday through Friday.

FOR FURTHER INFORMATION CONTACT: Dr. Perfecto Santiago, Assistant Deputy Administrator, Program Development Staff, Office of Policy, Program Development and Evaluation, Food Safety and Inspection Service, U.S. Department of Agriculture, Washington, DC 20250-3700; telephone (202) 205-0699 or fax (202) 401-1760.

SUPPLEMENTARY INFORMATION: For nearly a century, the U.S. Department of Agriculture (USDA) has been protecting the Nation's food supply. Over this long history, FSIS has worked to develop the infrastructure to confront new food biosecurity challenges. FSIS has thousands of food inspectors and veterinarians working in meat, poultry and egg product plants every day, and at ports of entry to this country to prevent, detect, and act in response to food safety emergencies.

In January 2002, President Bush signed into law the FY 2002 Defense Appropriations Act, which includes $328 million in emergency funding for the USDA to further protect the public by strengthening essential programs and services related to biosecurity issues. FSIS will receive $15 million for security upgrades and bioterrorism protection. Of that amount, $10 million is allocated to conduct a food safety bioterrorism protection program. This includes education and specialized training for food safety regulatory and inspection personnel; technical assistance for State, local and international food safety authorities; a food biosecurity awareness campaign targeted to the general public and regulated industries; and expanded FSIS laboratory capabilities to test meat and poultry products for bacterial and chemical agents. Physical security, cyber-security and telecommunications at government facilities also will be strengthened.

FSIS recognizes that American food producers have a vested interest in making biosecurity a priority. FSIS will continue to seek input from stakeholders in developing guidance on biosecurity matters. To ensure that the producers of meat, poultry, and egg products have access to information to protect themselves, FSIS developed the guidelines. These guidelines include measures food processing establishments may consider for the prevention and handling of intentional acts of contamination. The guidelines address the need for establishments to develop and maintain food security plans that cover both inside and outside security. The guidelines also include security measures for slaughter and processing, storage, shipping and receiving, water and ice supply, mail handling, and personnel.

FSIS is providing these guidelines to its field employees, who will assist plants that seek further information or advice; however, inspectors will not mandate adoption of any of the guidelines. The Agency intends to continue working to enhance guidance to businesses engaged in the production and distribution of regulated food and to work with other agencies to provide additional guidance for transportation, storage, and handling. The guidelines were developed as a first step, but FSIS recognizes the need for food protection guidelines from the ranch or farm to the consumer's table. FSIS invites public comment to strengthen these steps as part of the Homeland Security effort for the food and agricultural sectors.

Additional Public Notification

Public involvement in all segments of rulemaking and policy development is important. Consequently, in an effort to better ensure that minorities, women, and persons with disabilities are aware of this notice and informed about the mechanism for providing their comments, FSIS will announce it and make copies of this Federal Register publication available through the FSIS Constituent Update. FSIS provides a weekly FSIS Constituent Update, which is communicated via Listserv, a free e-mail subscription service. In addition, the update is available online through the FSIS web page located at http://www.fsis.usda.gov. The update is used to provide information regarding FSIS policies, procedures, regulations, Federal Register notices, FSIS public meetings, recalls, and any other types of information that could affect or would be of interest to our constituents/stakeholders. The constituent Listserv consists of industry, trade, and farm groups, consumer interest groups, allied health professionals, scientific professionals, and other individuals who have requested to be included. Through the Listserv and web page, FSIS is able to provide information to a much broader, more diverse audience.

For more information, contact the Congressional and Public Affairs Office, at (202) 720-9113. To be added to the free e-mail subscription service (Listserv), go to the “Constituent Update” page on the FSIS web site at http://www.fsis.usda.gov/oa/update.htm. Click on the “Subscribe to the Constituent Update Listserv” link, then fill out and submit the form.

Done in Washington, DC, on August 18, 2002.
William J. Hudnall,
Acting Administrator.

[FR Doc. 02-21376 Filed 8-21-02; 8:45 am]

BILLING CODE 3410-DM-P